Title 3—

The President

Executive Order 13344 of July 7, 2004

Amending Executive Order 13261 on the Order of Succession in the Environmental Protection Agency

By the authority vested in me as President by the Constitution and the laws of the United States of America, including the Federal Vacancies Reform Act of 1998, 5 U.S.C. 3345, et seq., it is hereby ordered that Executive Order 13261 of March 19, 2002, is amended as follows:

Section 1. In section 2, subsections (a), (b), and (c) are deleted and replaced with the following new subsections (a), (b), and (c):

(a) Assistant Administrator, Office of Solid Waste;

(b) Assistant Administrator for Toxic Substances;

(c) Assistant Administrator (Air and Radiation).

B

THE WHITE HOUSE,

July 7, 2004.

[FR Doc. 04-15787

Filed 7-8-04; 9:42 am]

Billing code 3195-01-P